OFFICE OF PERSONNEL MANAGEMENT

Notice of Revision of Standard Form 1152: Unpaid Compensation of Deceased Civilian Employee

AGENCY: U.S. Office of Personnel Management.

ACTION: Notice of revision.

SUMMARY: The U.S. Office of Personnel Management (OPM) has revised Standard Form (SF) 1152, Unpaid Compensation of Deceased Civilian Employee, to update examples of beneficiary designations. The SF 1152 is used by a civilian employee to designate the beneficiary or beneficiaries to receive any unpaid compensation due and payable after the employee's death. The form relates solely to money due as defined in 5 U.S.C. 5581, 5582, and 5583, and has no effect on any benefits which may become payable under the Retirement or Group Life Insurance Acts applicable to the deceased employee's Government service. The revised form is PDF fillable and is located on OPM's Web site at http://www.opm.gov/forms/html.sf.asp for agency use. This version supersedes all previous versions. Please destroy any versions you may have in stock.

DATES: The revised form is effective October 21, 2011.

FOR FURTHER INFORMATION CONTACT: Robert D. Hendler by telephone at (215) 861-3102; by fax at (215) 861-3100; or by e-mail at robert.hendler@opm.gov.

U.S. Office of Personnel Management.
John Berry,
Director.

[FR Doc. 2011-27255 Filed 10-20-11; 8:45 am]

BILLING CODE 6325-38-P